NATIONAL ARCHIVES AND RECORDS ADMINISTRATION

[NARA-2016-035]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. The records schedules authorize agencies to preserve records of continuing value in the National Archives of the United States and to destroy, after a specified period, records lacking administrative, legal, research, or other value. NARA publishes notice in the Federal Register for records schedules in which agencies propose to destroy records not previously authorized for disposal or reduce the retention period of records already authorized for disposal. NARA invites public comments on such records schedules, as required by 44 U.S.C. 3303a(a).

DATES: NARA must receive requests for copies in writing by July 6, 2016. Once NARA completes appraisal of the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

Fax: 301-837-3698

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it has created or maintains the records. Items included in schedules submitted to NARA on or after December 17, 2007, are media neutral unless the item is limited to a specific medium. (See 36 CFR 1225.12(e).)

Agencies may not destroy Federal records without the approval of the Archivist of the United States. The Archivist grants this approval only after a thorough consideration of the records' administrative use by the agency of origin, the rights of the Government and of private people directly affected by the Government's activities, and whether or not the records have historical or other value.

In addition to identifying the Federal agencies and any subdivisions requesting disposition authority, this notice lists the organizational unit(s) accumulating the records or notes that the schedule has agency-wide applicability (in the case of schedules that cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of the Army, Agency-wide (DAA-AU-2016-0023, 1 item, 1 temporary item). Master files of an electronic information system that contains military and civilian personnel visa and passport transactions.

2. Department of Defense, Defense Information Systems Agency (DAA-0371-2014-0016, 1 item, 1 temporary item). Records relating to the test and evaluation of electronic information systems.

3. Department of Defense, Defense Threat Reduction Agency (DAA-0374-2014-0015, 1 item, 1 temporary item). Records relating to policies, procedures, and administration of secure facilities for the purposes of continuity of operations.

4. Department of Defense, Defense Threat Reduction Agency (DAA-0374-2014-0033, 1 item, 1 temporary item). Copies of records regarding administration and maintenance of critical materials stockpiles.

5. Department of Defense, Defense Threat Reduction Agency (DAA-0374-2014-0044, 1 item, 1 temporary item). Records relating to warehouse management of parts used by the nuclear industry, including purchase, shipping, tracking, and delivery documents.

6. Department of Defense, Office of the Secretary of Defense (DAA-0330-2014-0010, 4 items, 4 temporary items). Master files of an electronic information system used by customers to rate products and services provided by DoD offices and facilities.

7. Department of Defense, Office of the Secretary of Defense (DAA-0330-2016-0003, 1 item, 1 temporary item). Master files of an electronic information system used by victims of sexual assault to anonymously request help or assistance.

8. Department of Defense, Office of the Secretary of Defense (DAA-0330-2016-0004, 1 item, 1 temporary item). Master files of an electronic information system used to track help or assistance provided to victims of sexual assaults.

9. Department of Defense, Office of the Secretary of Defense (DAA-0330-2016-0005, 1 item, 1 temporary item). Master files of an electronic information system used to track inquiries for information on sexual assault cases.

10. Department of Health and Human Services, Administration for Children and Families (DAA-0292-2016-0015, 2 items, 2 temporary items). Records relating to the audit process of the National Child Support Program, including audit findings, correspondence, and interim reports.

11. Department of Homeland Security, United States Citizenship and Immigration Services (DAA-0566-2016-0005, 8 items, 8 temporary items). Applications for employment authorizations.

12. Department of Homeland Security, United States Citizenship and Immigration Services (DAA-0566-2016-0009, 1 item, 1 temporary item). Master files of an electronic information system used to track and process applications, petitions, and requests for benefits and services.

13. Department of Justice, Drug Enforcement Administration (DAA-0170-2015-0003, 1 item, 1 temporary item). Audit report files.

14. Department of the Navy, Agency-wide (DAA-NU-2015-0001, 42 items, 31 temporary items). Records relating to military personnel including program planning and management, recruiting, training, confinement of prisoners, routine communications traffic, and related matters. Proposed for permanent retention are personnel files, personnel information system master files, student records, visual information, and records relating to policy, personnel accounting, awards, casualties, education, review boards, and corrections management.

15. Department of the Navy, United States Marine Corps (DAA-0127-2013-0009, 1 item, 1 temporary item). Master files of an electronic information system that contains records relating to risk assessments of Marine Corps facilities, including asset location, asset names, asset missions and risk mitigation planning.

16. Department of State, Bureau of Counterterrorism (DAA-0059-2014-0024, 2 items, 1 temporary item). Records include staff program files of the Front Office. Proposed for permanent retention are program files of the Front Office, including those of the Coordinator and Principal Deputy Coordinator.

17. Department of Transportation, Federal Railroad Administration (DAA-0399-2014-0001, 8 items, 6 temporary items). Records relating to railroad policy and development, including completed and canceled project case files, environmental records, maps, subject files, and routine analysis records. Proposed for permanent retention are Amtrak Board of Directors records and landmark analysis records.

18. Department of the Treasury, Internal Revenue Service (DAA-0058-2016-0003, 3 items, 3 temporary items). Records relating to tax return preparer registration, renewal, and payment processing.

19. Department of Veterans Affairs, Veterans Health Administration (DAA-0015-2016-0004, 2 items, 2 temporary items). Records relating to health care worker training.

20. National Aeronautics and Space Administration, Agency-wide (DAA-0255-2015-0001, 6 items, 4 temporary items). Records relating to NASA building designs for the headquarters facility and centers located throughout the nation, including preliminary design files, drawings, and records of cancelled projects. Proposed for permanent retention are final design files of architecturally, historically, and technologically significant facilities.

Laurence Brewer,
Chief Records Officer for the U.S. Government.

[FR Doc. 2016-13190 Filed 6-3-16; 8:45 am]

BILLING CODE 7515-01-P